DEPARTMENT OF ENERGY

National Energy Technology Laboratory

Notice of Intent To Grant a Partially Exclusive License

AGENCY: National Energy Technology Laboratory, Department of Energy.

ACTION: Notice of intent to grant a partially exclusive license.

SUMMARY: The National Energy Technology Laboratory (NETL) hereby gives notice that the Department of Energy (DOE) intends to grant a partially exclusive license to practice the invention described and claimed in U.S. Patent Application Number 15/782,315 and International Patent Application Number PCT/US2017/056421, “Stable Immobilized Amine Sorbents for REE and Heavy Metal Recovery from Liquid Sources” to PQ Corporation, having its principal place of business in Malvern, Pennsylvania. The invention is owned by the United States of America, as represented by DOE.

DATES: Written comments, objections, or nonexclusive license applications must be received at the ADDRESS listed no later than March 14, 2018. Objections submitted in response to this notice will not be made available to the public for inspection and, to the extent permitted by law, will not be released under the Freedom of Information Act, 5 U.S.C. 552.

ADDRESSES: Comments, applications for nonexclusive licenses, or objections relating to the prospective partially exclusive license should be submitted to Jessica Lamp, Technology Transfer Program Manager, U.S. Department of Energy, National Energy Technology Laboratory, P.O. Box 10940, Pittsburgh, PA 15236-0940 or via facsimile to (412) 386-4183.

FOR FURTHER INFORMATION CONTACT: Jessica Lamp, Technology Transfer Program Manager, U.S. Department of Energy, National Energy Technology Laboratory, P.O. Box 10940, Pittsburgh, PA 15236; Telephone (412) 386-7417; Email: jessica.lamp@netl.doe.gov.

SUPPLEMENTARY INFORMATION: Section 209(c) of title 35 of the United States Code gives DOE the authority to grant exclusive or partially exclusive licenses in Department-owned inventions where a determination is made, among other things, that the desired practical application of the invention has not been achieved, or is not likely to be achieved expeditiously, under a nonexclusive license. The statute and implementing regulations (37 CFR 404) require that the necessary determinations be made after public notice and opportunity for filing written comments and objections.

PQ Corporation, has applied for a partially exclusive license to practice the invention and has a plan for commercialization of the invention. DOE intends to grant the license, upon a final determination in accordance with 35 U.S.C. 209(c), unless within 15 days of publication of this notice, NETL's Technology Transfer Program Manager (contact information listed) receives in writing any of the following, together with supporting documents:

(i) A statement from any person setting forth reasons why it would not be in the best interest of the United States to grant the proposed license; or

(ii) An application for a nonexclusive license to the invention, in which applicant states that it already has brought the invention to practical application or is likely to bring the invention to practical application expeditiously.

The proposed license would be partially exclusive, subject to a license and other rights retained by the United States, and subject to a negotiated royalty. The exclusive fields of use are: removal of rare earth elements from liquids, coal tailings, fly ash and acid mine drainage; removal of heavy metals, such as copper, lead and arsenic from liquids; and removal of barium and strontium from liquids. DOE will review all timely written responses to this notice, and will grant the license if, after expiration of the 15-day notice period, and after consideration of any written responses to this notice, a determination is made in accordance with 35 U.S.C. 209(c) that the license is in the public interest.

Dated: February 6, 2018.
Grace M. Bochenek,
Director, National Energy Technology Laboratory.

[FR Doc. 2018-03936 Filed 2-26-18; 8:45 am]

BILLING CODE 6450-01-P